COMMISSION ON CIVIL RIGHTS

Agenda and Notice of Public Meeting of the Florida Advisory Committee

Notice is hereby given, pursuant to the provisions of the rules and regulations of the U.S. Commission on Civil Rights, that a meeting of the Florida Advisory Committee to the Commission will convene at 1 p.m. and adjourn at 5 p.m. on Tuesday, November 14, 2000, at the Wyndham Orlando Hotel, 8001 International Drive, Orlando, Florida 32819. The purpose of the meeting is to provide new member orientation and discuss such topics as affirmative action in Florida, the Governor's “One Florida Plan,” immigration, education, and other current civil rights issues.

Persons desiring additional information or planning a presentation to the Committee should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, October 11, 2000.
Lisa M. Kelly,
Special Assistant to the Staff Director, Regional Programs Coordination Unit.

[FR Doc. 00-26636 Filed 10-16-00; 8:45 am]

BILLING CODE 6335-01-P